DEPARTMENT OF HEALTH AND HUMAN SERVICES

Office of the Secretary

Statement of Delegation of Authority

Notice is hereby given that I have delegated to the Director of the Office for Civil Rights (OCR) the following authorities vested in the Secretary of Health and Human Services:

1. The authority under section 543 of the Public Health Service Act, as amended by section 3221 of the Coronavirus Aid, Relief, and Economic Security (CARES) Act (Pub. L. 116-136), 42 U.S.C. 290dd-2, and its implementing regulation, 42 CFR part 2, to the extent that these actions pertain to the confidentiality of substance use disorder patient records, to:

A. Impose civil money penalties under section 1176 of the Social Security Act, as amended, for failures to comply with requirements under that section;

B. Enter into resolution agreements, monetary settlements, and corrective action plans, as appropriate, to resolve indications of noncompliance with requirements of that section; and

C. Issue subpoenas requiring the attendance and testimony of witnesses and the production of any evidence that relates to any matter under investigation or compliance review for failure to comply with requirements of that section.

2. The authority under section 543 of the Public Health Service Act, as amended by section 3221 of the CARES Act, to administer the regulation, “Confidentiality of Substance Use Disorder Patient Records,” at 42 CFR part 2, and to make decisions regarding the interpretation, implementation, and enforcement of these requirements.

General Provisions

This delegation supersedes any prior delegations.

This authority may be redelegated by the Director of OCR.

I hereby affirm and ratify any actions taken by the Director of OCR or their subordinates which involved the exercise of the authority delegated herein prior to the effective date of this delegation.

Effective Date

This delegation is effective upon the date of signature.

Authority

42 U.S.C. 290dd-2; 42 U.S.C. 1320d-5; 42 CFR part 2.

Dated: August 25, 2025.
Robert F. Kennedy, Jr.
Secretary, Department of Health and Human Services.

[FR Doc. 2025-16391 Filed 8-26-25; 8:45 am]

BILLING CODE 4153-01-P